INTERNATIONAL TRADE COMMISSION

[Investigation No. 731-TA-703 (Third Review)]

Furfuryl Alcohol From China

Determination

On the basis of the record ¹ developed in the subject five-year review, the United States International Trade Commission (Commission) determines, pursuant to section 751(c) of the Tariff Act of 1930 (19 U.S.C. 1675(c)), that revocation of the antidumping duty order on furfuryl alcohol from China would be likely to lead to continuation or recurrence of material injury to an industry in the United States within a reasonably foreseeable time.

¹ The record is defined in sec. 207.2(f) of the Commission's Rules of Practice and Procedure (19 CFR 207.2(f)).

Background

The Commission instituted this review on September 1, 2011 (76 FR 54493) and determined on December 5, 2011 that it would conduct an expedited review (76 FR 78945, December 20, 2011).

The Commission transmitted its determination in this review to the Secretary of Commerce on January 30, 2012. The views of the Commission are contained in USITC Publication 4302 (January 2012), entitled Furfuryl Alcohol From China: Investigation No. 731-TA-703 (Third Review).

By order of the Commission.
Issued: January 31, 2012.
James R. Holbein,
Secretary to the Commission.

[FR Doc. 2012-2540 Filed 2-3-12; 8:45 am]

BILLING CODE 7020-02-P